DEPARTMENT OF HOMELAND SECURITY

U.S. Customs and Border Protection

Notice of Availability of the Final Programmatic Environmental Assessment and Finding of No Significant Impact for the Deployment and Operation of High Energy X-Ray Inspection Systems at Sea and Land Ports of Entry

AGENCY: U.S. Customs and Border Protection, Department of Homeland Security.

ACTION: Notice of availability.

SUMMARY: A final Programmatic Environmental Assessment (PEA) and a Finding of No Significant Impact (FONSI) for High Energy X-Ray Inspection Systems (HEXRIS) at sea and land ports of entry has been prepared and is available for public review. The final PEA documents a review of the potential environmental effects of the deployment and operation of HEXRIS at various sea and land ports of entry. Based on the final PEA, a determination was made that the proposed action will not significantly affect the human environment such that further analysis is required. Therefore, a FONSI was issued, and no Environmental Impact Statement (EIS) is required.

DATES: The final PEA and FONSI are available for review through November 5, 2010.

ADDRESSES: Copies of the final PEA and FONSI may be obtained by accessing the following Internet address: http://ecso.swf.usace.army.mil/Pages/Publicreview.cfm, or by contacting Guy Feyen of CBP by telephone (202-344-1531), by fax (202-344-1418), by e-mail to guy.feyen@dhs.gov, or by writing to: CBP, Attn: Guy Feyen, 1300 Pennsylvania Avenue, NW., Suite 1575, Washington, DC 20229.

FOR FURTHER INFORMATION CONTACT: Antoinette DiVittorio, Environmental and Energy Division, U.S. Customs and Border Protection, telephone (202) 344-3131.

SUPPLEMENTARY INFORMATION: High energy X-ray inspection is a non-intrusive inspection technology that is used to scan high-density cargo containers for contraband such as illicit drugs, currency, guns, and weapons of mass destruction. To assist U.S. Customs and Border Protection (CBP) in meeting its mission requirements of securing the borders of the United States while simultaneously facilitating legitimate trade and travel, High Energy X-Ray Inspection Systems (HEXRIS) are proposed to be deployed and operated at both sea and land ports of entry across the United States and Puerto Rico. HEXRIS fill a unique niche in the types of inspection tools used by CBP at the Nation's ports of entry. HEXRIS are capable of penetrating dense cargo loads that cannot otherwise be examined with other technologies such as gamma imaging systems or low-energy X-ray systems. HEXRIS will also assist in fulfilling the requirement for the 100% scanning of containers entering the United States as directed in the Security and Accountability for Every (SAFE) Port Act of 2006. Public Law 109-347 (Oct. 13, 2006).

The NEPA Process

The National Environmental Policy Act of 1969 (NEPA) requires an agency to evaluate the environmental implications of any proposed major action that could significantly affect the quality of the human environment. Generally, to meet the NEPA requirements, an agency prepares an Environmental Assessment (EA) to determine whether a more thorough analysis of the environmental implications is necessary. If such an analysis is necessary, the agency will produce an Environmental Impact Statement (EIS). If additional analysis is not necessary, the agency will issue a Finding of No Significant Impact (FONSI). A Programmatic Environmental Assessment (PEA) is an EA that evaluates a major action on a broad, programmatic basis. Environmental evaluations at specific project locations are conducted later.

HEXRIS PEA

On May 25, 2010, CBP published a notice in the Federal Register (75 FR 29357). entitled: “Notice of Availability of the Draft Programmatic Environmental Assessment for the Deployment and Operation of High Energy X-Ray Inspection Systems at Sea and Land Ports of Entry.” This notice announced that a draft PEA concerning HEXRIS had been prepared and made available to the public in accordance with NEPA, the Council on Environmental Quality Regulations for Implementing the NEPA (40 CFR parts 1500-1508), and Department of Homeland Security Directive 023-01 (renumbered from 5100.1), Environmental Planning Program of April 19, 2006. The notice informed the public on how to obtain a copy of the draft PEA and requested comments from the public about the draft PEA. The draft PEA addressed the potential environmental effects from the installation and operation of HEXRIS at various ports throughout the United States. CBP conducted evaluations on various resources present at the ports, including: Climate, soils, water quality, air quality, vegetation, wildlife, noise, infrastructure, aesthetics, and radiological heath and safety, which were discussed in the draft PEA. The draft was made available for a 30 day public comment period, beginning on the date of the publication of the notice. The comment period ended on June 24, 2010. Two comments were received.

CBP has now prepared the final PEA for the deployment and operation of HEXRIS. The comments received on the draft PEA have been reviewed and are included in the final PEA document. On the basis of the final PEA, CBP determined that the installation and operation of HEXRIS will have no significant impact on human health or the environment and that preparation of an EIS is not warranted. A FONSI was issued on August 3, 2010. The environmental implications for individual ports will be considered as HEXRIS are installed. Any relevant documents will be made available for public review via publication of notices in the Federal Register.

Dated: October 1, 2010.
Gregory Giddens,
Executive Director, Facilities Management and Engineering, Office of Administration.

[FR Doc. 2010-25116 Filed 10-5-10; 8:45 am]

BILLING CODE 9111-14-P